DEPARTMENT OF HEALTH AND HUMAN SERVICES

Administration for Children and Families

[Office of Management and Budget #:0970-0160]

Proposed Information Collection Activity; Procedures for Requests From Tribal Lead Agencies To Use Child Care and Development Funds for Construction or Major Renovation of Child Care Facilities

AGENCY: Office of Child Care, Administration for Children and Families, U.S. Department of Health and Human Services.

ACTION: Request for public comments.

SUMMARY: The Administration for Children and Families (ACF) is proposing to resume collecting data for the Procedures for Requests from Tribal Lead Agencies to use Child Care and Development Fund (CCDF) Funds for Construction or Major Renovation of Child Care Facilities. This information collection was previously approved by the Office of Management and Budget. The Office of Child Care (OCC) is proposing to extend approval of the information collection with changes, significantly reducing the burden for Tribal Lead Agencies and clarifying requirements.

DATES: Comments due March 24, 2026.

ADDRESSES: In compliance with the requirements of the Paperwork Reduction Act of 1995, ACF is soliciting public comment on the specific aspects of the information collection described above. You can obtain copies of the proposed collection of information and submit comments by emailing infocollection@acf.hhs.gov. Identify all requests by the title of the information collection.

SUPPLEMENTARY INFORMATION:

Description: 42 U.S.C. 9858m(c)(6) of the Child Care and Development Block Grant (CCDBG) Act allows Tribal Lead Agencies to use CCDF funds for construction or major renovation of child care facilities. A Tribal Lead Agency, including those that have consolidated their CCDF program into an approved plan under the Indian Employment, Training and Related Services Consolidation Act of 2017, also known as Public Law 102-477, must first request and receive approval from ACF before using CCDF funds for construction or major renovation. The CCDBG Act requires ACF to develop and implement uniform procedures for the solicitation and consideration of such requests. This Program Instruction (PI) sets forth the uniform procedures.

The PI was reorganized and content streamlined to improve readability and user-friendliness. Language was revised to be consistent and reduce redundancies. The updated PI removed requirements not required by statute, regulation, grants policy, or directly supportive of OCC's understanding of the scope of the project. Citations and definitions were updated. The burden estimates have been updated to reflect these updates.

Respondents: Tribal Child Care Lead Agencies acting on behalf of tribal governments.

Annual Burden Estimates

This version of the PI includes 19 fewer pages and 5 fewer requirements than the previously approved version, resulting in a decrease in the estimated burden time per respondents from about 20 hours per response to 6 hours per response. OCC estimates it will receive approximately 20 requests per year from 266 eligible Tribal Lead Agencies.

Instrument | Annual number of respondents | Total number of responses per respondent | Average burden hours per response | Annual burden hours
Construction and Major Renovation Set-Aside Request Submission | 20 | 1 | 1 | 20
Construction and Major Renovation Application Development and Submission | 20 | 1 | 5 | 100
Estimated Total Annual Burden Hours |  |  |  | 120

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 9858(c)(6).

Mary C. Jones,
ACF/OPRE Certifying Officer.

[FR Doc. 2026-01273 Filed 1-22-26; 8:45 am]

BILLING CODE 4184-78-P